DEPARTMENT OF EDUCATION

Notice Inviting Proposals for Taking Ownership and Operation of the TEACH Campaign

AGENCY: Office of Innovation and Improvement, U.S. Department of Education.

ACTION: Notice inviting proposals for ownership and operation of the TEACH Campaign, including the recruiting effort and the maintenance and operation of the Web Portal.

SUMMARY: The U.S. Department of Education (Department) has set a goal for the United States to lead the world in completion of postsecondary education by 2020. The Department recognizes that the most significant in-school-factor in a student's education is his or her teacher, and wants to encourage a large and diverse group of high-performing individuals to pursue a career in teaching. As one strategy to reach this goal, the Department launched the TEACH Campaign—a national teacher recruiting effort with the goal of contributing to a high-performing and more diverse teaching force by linking prospective teachers to opportunities for preparation, licensure, and employment. Through a contract, the Department launched the TEACH Campaign using traditional media, digital media, social networking, and direct outreach and follow-up activities with potential and current teachers, and supported it with a Web-based portal (http://www.teach.gov, and associated social networking accounts with YouTube, Twitter, and Facebook, collectively referred to as the “Web Portal”) that is available for use by potential and currently employed teachers for free. The TEACH Campaign (i) targets individuals between the ages of 18 and 25, especially those who are potential high-performers and are among populations under-represented in the teaching profession or are individuals interested in teaching English learners, students with disabilities, or in the fields of science, technology, engineering, and mathematics (STEM) in underserved communities (the targeted populations), (ii) strives to enhance public perception of teachers, and (iii) develops support for new and already-practicing teachers. The TEACH Campaign, which is supported through the Web Portal, is based on a comprehensive strategic communications plan, which includes a clear and identifiable “brand,” celebrity and teacher public service announcements that are disseminated through multiple formats (e.g., traditional media, digital media, and social networks), and direct outreach and follow-up activities with potential teachers. The Web Portal is designed to improve the recruitment, training, mentoring, retention, and placement of teachers.

The Department plans to transfer ownership and operation of the TEACH Campaign, including the recruiting effort and the Web Portal, to an entity or to a group of entities that enter into an agreement to collaborate, form a consortium, or establish a partnership (entity) that works outside of the Federal Government and that would, with its own resources, execute and continuously improve an excellent and effective teacher recruiting effort, continuously improve a highly visible and useful Web Portal, and continue to make the Web Portal available at all times to potential and currently employed teachers for free. Through this notice, we are inviting proposals from entities interested in owning and operating the TEACH Campaign, including the recruiting effort and the Web Portal.

DATES: To ensure that your proposal receives consideration, it must be received by the Department no later than May 19, 2011. The Department would like to announce the selected entity on or about June 20, 2011.

Please inform us via e-mail by May 4, 2011, if you intend to submit a proposal. Notification of your intent to submit a proposal will help the Department prepare for the review process. Please note that you may still submit a proposal if you do not indicate that you intend to apply. Instructions for submitting a proposal are set forth in the Submission Requirements section later in this notice.

Individuals with disabilities who need an accommodation or auxiliary aid in connection with the application process should e-mail TEACHrfp@ed.gov. If the Department provides an accommodation or auxiliary aid to an individual with a disability in connection with the application process, the individual's proposal remains subject to all other requirements and limitations in this notice.

FOR FURTHER INFORMATION CONTACT: For further information, please send an e-mail to: TEACHrfp@ed.gov.

SUPPLEMENTARY INFORMATION:

Background

Through the fiscal year 2009 appropriation under the School Improvement Programs account, Congress authorized the Secretary of Education to carry out activities, such as the TEACH Campaign, to improve the recruitment, training, mentoring, retention, and placement of teachers in order to improve educational outcomes. See Public Law 111-8, Division F, Title III, March 11, 2009 Omnibus Appropriations Act (Act), Div. F, Title III, School Improvement Programs, Section 4, preceding Division A of the Act, and the House Manager's Explanatory Statement, published in the Congressional Record on February 23, 2009, which provided the following: “In addition, up to $7,500,000 shall be available for the Secretary to use for teacher and principal quality initiatives designed to improve recruitment, training, mentoring, retention, and placement, and transform education outcomes.”

To achieve the ultimate goal of once again leading the world in college completion by 2020, the Department, through a contract, designed and created the TEACH Campaign, including the recruiting effort and the Web Portal. The recruiting effort and the Web Portal were designed to, among other things: (i) Increase interest in, and access to, the tools needed to prepare for and secure a position in the teaching profession, particularly among the targeted populations, (ii) enhance the public perception of teachers, and (iii) develop support for new and already practicing teachers. The Web Portal was launched on September 27, 2010, and continues to be available to potential and currently employed teachers for free.

The Department believes that the effectiveness of the TEACH Campaign would be significantly enhanced—that is, would provide long-lasting benefits to the targeted populations and to the Nation—if an outside entity assumed responsibility for ownership and continued operation of the recruiting effort and the Web Portal. The Department will provide the selected entity with information we gathered on the early use of the recruiting effort and the Web Portal, including on the costs of operation and the audiences that have accessed the Web site, in order to help the entity effectively maintain, operate, and enhance the Web Portal and improve the recruiting effort. In addition, the Department will, through a transfer agreement signed by the Department and the selected entity, set forth the terms of the transfer of ownership of the TEACH Campaign, including the recruiting effort and the Web Portal, to an entity outside of the Federal Government, and the operation of the TEACH Campaign and the Web Portal by that entity with the entity's own resources.

Some of the key provisions of the transfer agreement will be the following:

Objective. The transfer agreement will require the selected entity to agree that the objective of the TEACH Campaign is to (i) recruit more than a million total new teachers, with an emphasis on recruiting members of the targeted populations, (ii) enhance public perception of teachers, and (iii) develop support for new and already-practicing teachers (the Objective).

Privacy Policy. The transfer agreement will require, among other things, that the selected entity include on the Web Portal a privacy policy that protects the privacy of the users and limits the selected entity's use of users' data. Further, the transfer agreement will require that any data about users that the Department transfers to the selected entity will be used only for the purpose of improving the recruitment, training, mentoring, retention, and placement of teachers in order to improve educational outcomes and will not be used for another purpose without the consent of the user.

Trademarks. The Department has created trademarks to identify and distinguish the TEACH Campaign (Trademarks). Pursuant to the transfer agreement, the Department will assign all rights in the Trademarks to the selected entity.

Web Address. Because the Web Portal is currently registered as a “.gov” domain and “.gov” domains are only available to official government organizations, the selected entity must re-register the Web Portal with an alternate domain that is appropriate (e.g., .org, .com, or .edu).

Responsibilities of the Selected Entity. The duties of the selected entity will include, at a minimum:

(1) Making the Web Portal readily available at all times to potential and currently employed teachers for free.

(2) Solving any implementation problems in order to keep the recruiting effort and the Web Portal operating in at least the same condition in which they are transferred to the entity.

(3) Enhancing the overall quality of the recruiting effort and the Web Portal, including but not limited to, enhancing the content made available through each, such as providing better information on how to become a teacher, on State certification processes, and on job listings.

(4) Identifying new populations of potential teachers (e.g., members of the military, mid-career professionals, and recent retirees), while continuing to reach out to the targeted populations identified in this notice.

(5) Continuing and enhancing outreach efforts designed to elevate the public perception of teaching and through traditional and digital marketing and outreach strategies.

(6) Continuing and enhancing direct outreach and follow-up activities with the targeted populations through, for example, public events and other programming.

(7) Building business partnerships and coalitions that will help develop the TEACH Campaign into a nationally prominent effort to bring a large number of high-performing individuals into the next generation of teachers, including individuals from the targeted populations.

Based on these general expectations, an entity interested in acquiring ownership and operation of the TEACH Campaign, including the recruiting effort and the maintenance and operation of the Web Portal, should submit a proposal that addresses the following key factors, which are designed to enable an entity to demonstrate its ability to recruit teachers, its prior success in executing large projects, and its ability to effectively manage the TEACH Campaign, including the recruiting effort and the Web Portal.

Key Factors

The entity's proposal must include evidence that the entity will meet the following factors:

(1) The entity's ability to increase interest in, and access to, the teaching profession among the targeted populations.

(2) The entity's ability to achieve established goals, including prior success in executing large projects.

(3) The entity's planned use of a privacy policy that protects the privacy interests of the users of the Web Portal; limits the entity's use of users' data; and ensures that any data about users that the Department transfers to the selected entity will be used only for the purpose of achieving the Objective and will not be used for any other purpose without the consent of the user.

(4) Demonstrated substantive interest in the goals of the TEACH Campaign and an expertise in recruitment.

(5) Demonstrated capacity to complete a recruiting effort, or demonstrated willingness to enter into a partnership with an entity with such capacity.

(6) Demonstrated organizational capacity to conduct direct outreach to, and follow-up efforts with, the targeted populations, or demonstrated willingness to enter into a partnership with an entity with such capacity.

(7) Entity's capacity to enter into partnerships with partners or potential partners, who can supplement and enhance the entity's ability to establish a successful recruiting effort.

(8) The technological infrastructure and other resources to operate and maintain effectively the TEACH Campaign, including the Web Portal, and make it available to potential and currently employed teachers for free.

(9) A proposed system for measuring the entity's success in meeting the Objective.

(10) Evidence of the entity's fiscal and management capabilities.

The Department will use the following criteria to evaluate how well the proposals submitted in response to this notice address these Key Factors.

Note: The maximum total score any proposal can receive is 100 points. The maximum score for each criterion is indicated in parentheses below.

Organizational Capacity (25 Points)

(1) The extent to which the entity describes a comprehensive vision for an enduring recruiting and outreach effort that at a minimum meets the Objective.

(2) The quality of the proposed project personnel, and the extent to which the personnel have the appropriate qualifications, competencies, and experience in the management of (i) a recruiting effort that includes traditional media, digital media, social networking, and direct outreach and follow-up activities with prospective teachers, and (ii) the operation and maintenance of the Web Portal in a manner that achieves the Objective.

(3) The extent to which the entity (i) has the technological and financial resources, and skills to maintain and operate the TEACH Campaign, including the Web Portal, and ensure that the Web Portal is made available to potential and currently employed teachers for free, (ii) has the capacity to develop and execute a recruiting effort that includes traditional media, digital media, social networking, and direct outreach and follow-up activities with prospective teachers and (iii) has the resources and capability to meet the Objective.

(4) The extent to which the entity demonstrates the ability to enter into partnerships and coalitions that will help develop the project into a nationally prominent movement to recruit a large, high-performing and diverse group of individuals into the next generation of teachers.

Management Plan (25 Points)

(1) The extent to which the entity provides a comprehensive description of the proposed plan in a clear and sequential fashion for (i) accomplishing all of the responsibilities listed in the Responsibilities of the Selected Entity section of this notice, (ii) effectively managing the TEACH Campaign, including the recruiting effort and the Web Portal, and (iii) enhancing and continuing operation of the recruiting effort and the Web Portal.

(2) The extent to which the entity's proposed system for evaluating its success in meeting the Objective is likely to produce data that accurately measure its success in recruiting more than a million total new teachers, including teachers from the targeted populations.

(3) The extent to which the entity's privacy policy to protect the users of the Web Portal is effective, limits the entity's use of users' data, and ensures that any data about users that the Department transfers to the selected entity will be used only for the purpose of improving the recruitment, training, mentoring, retention, and placement of teachers in order to improve educational outcomes and will not be used for any other purpose without the consent of the user.

(4) The extent to which the time commitments of the entity's staff are appropriate to operate and maintain the TEACH Campaign, including the Web Portal, and an effective recruiting effort that includes traditional media, digital media, social networking, and direct outreach and follow-up activities with prospective teachers.

Outreach Efforts (25 Points)

(1) The quality of the entity's marketing and outreach plan for the TEACH Campaign, which includes a description of the goals of raising the public perception of teachers and of the TEACH Campaign's Objective.

(2) The extent to which the entity demonstrates the ability and prior success in executing large efforts of this type.

(3) The extent to which the entity demonstrates strong familiarity with and success in using traditional media, digital media, and social media campaigns and how it plans to maintain active communities via social media networks such as Facebook, Twitter, email lists, and bulletin boards to encourage new users to engage with the TEACH Campaign and encourage return visits to the Web Portal.

(4) The extent to which the entity demonstrates a thorough understanding of the targeted populations of potential and current teachers.

(5) The quality of the entity's plan for continuing and enhancing direct outreach and follow-up activities with the targeted populations (through, for example, organizing public events and other programming).

The Web Portal (25 Points)

(1) The quality of the entity's plan and vision for the enhancement and continued operation of the Web Portal.

(2) The extent to which the entity demonstrates that it has the technological and financial resources and skills to maintain and operate the Web Portal, and to ensure that the Web portal is made available to potential and currently employed teachers for free in perpetuity.

(3) The extent to which the entity demonstrates the capability to aggregate content and data regarding the full cycle of becoming a teacher (e.g., teacher preparation institutions, scholarships, State certification processes, and job listings) and publish and maintain up-to-date and useful information for potential and current teachers.

(4) The extent to which the entity demonstrates the ability to integrate the Web Portal into off-line (e.g., radio, print, and television) and on-line (e.g., search engine, video, and video games) advertising and promotion campaigns.

(5) The extent to which the entity provides credible evidence that the management of personnel, partners and potential partners, physical resources, activities, and work production will result in a robust and high-quality Web Portal with a 99.99 percent “uptime rate” exclusive of published maintenance periods and inclusive of clear communication to users of what to expect in the event of technical difficulties.

(6) The quality of the entity's plan for monitoring and evaluating the intended use, effectiveness, and improvements of the Web Portal.

Interests of the Federal Government

To protect the Department's interests in the TEACH Campaign, including the Web Portal and the Trademarks, the selected entity must provide a written assurance executed by an appropriate officer that—

(1) The entity acknowledges that the Department will assign to the selected entity ownership and operation of the TEACH Campaign, including the Web Portal and all rights and interests it possesses in the data and content therein, as well as the Trademarks, including all rights and interests possessed therein.

(2) The entity agrees to own and operate the TEACH Campaign, including the Web Portal and the Trademarks, consistent with its proposal and with the purposes and provisions of this notice.

(3) The entity agrees, per calendar year, to submit three quarterly reports and an annual report regarding the operation, audience, and use of the TEACH Campaign, including the Web Portal, in such detail as the Department specifies in the transfer agreement until the Department and the entity mutually agree in writing that the selected entity achieved the Objective.

(4) The entity acknowledges that if it fails to comply with the transfer agreement at any time prior to achieving the Objective, all rights and interests in all data and content of the TEACH Campaign, including the Web Portal, and any improvements thereto; all intellectual property rights, including the Trademarks; and all databases needed to operate the TEACH Campaign and the Web Portal will revert back to the Department at no cost to the Department (Reversion).

In the event of a Reversion, the Department can transfer ownership, operation, and interests in the TEACH Campaign, the Web Portal, and the Trademarks, to another entity in accordance with a notice published in the Federal Register.

Termination of Certain Rights, Duties, and Obligations

All duties, obligations, and restrictions of the selected entity, as specified in the transfer agreement, including, but not limited to, the selected entity's obligation to provide quarterly and annual reports to the Department, and the Department's right to repossess the TEACH Campaign, including the Web Portal and the Trademarks, will end upon the Department's and the selected entity's mutual written determination that the selected entity achieved the Objective.

Availability of Funds

The Department anticipates that there will not be any Federal funds available to support the TEACH Campaign, including the Web Portal, once ownership and operation are transferred from the Federal Government to the selected entity. Upon the transfer, the TEACH Campaign, including the Web Portal will be the sole responsibility of the selected entity to bear all costs associated with ownership and operation thereof.

Other Required Information in Proposals

Proposals submitted in response to this notice also must include the following information:

(1) Name, address, and contact information for the entity submitting the proposal.

(2) Mission statement of the entity.

(3) The entity's current Web site URL.

(4) The most recent audited information (such as that contained in a consolidated financial statement) regarding the financial condition and other capabilities of the entity.

(5) Description of existing programs owned and operated by the entity that could support the entity in achieving the goals of the TEACH Campaign, including the Web Portal.

Submission Requirements: Interested entities must submit a proposal for owning and operating the TEACH Campaign, including the recruiting effort and the maintenance and operation of the Web Portal, that addresses the factors and associated criteria outlined in this notice. Proposals may be submitted electronically or in paper format by mail or hand delivery. We will not consider any proposal that does not comply with the deadline requirements.

a. Electronic Submission of Proposals. If you choose to submit your proposal to us electronically, email your proposal to TEACHrfp@ed.gov. Please note the following:

• You must complete the electronic submission of your proposal by 4:30 p.m., Washington, DC time, on May 19, 2011.

• You will not receive additional point value because you submit your proposal in electronic format, nor will we penalize you if you submit your proposal in paper format.

• You must submit all documents electronically, including any narrative sections and all other attachments to your proposal as files in a .PDF (Portable Document) format only. If you upload a file type other than a .PDF or submit a password-protected file, we will not review that material.

• Prior to submitting your electronic proposal, you may wish to print a copy of it for your records.

• We may request that you provide us original signatures on other documents at a later date.

Deadline Date Extension in Case of System Unavailability: If you are prevented from electronically submitting your proposal on the deadline date because TEACHrfp@ed.gov was unavailable, we will grant you an extension of one business day to enable you to transmit your proposal electronically, by mail, or by hand delivery. We will grant this extension if—

• TEACHrfp@ed.gov was unavailable for 60 minutes or more between the hours of 8:30 a.m. and 3:30 p.m., Washington, DC time, on the deadline date; or

• TEACHrfp@ed.gov was unavailable for any period of time between 3:30 p.m. and 4:30 p.m., Washington, DC time, on the deadline date.

We must acknowledge and confirm these periods of unavailability before granting you an extension. To request this extension or to confirm our acknowledgment of any system unavailability, you may e-mail TEACHrfp@ed.gov. If TEACHrfp@ed.gov was unavailable due to technical problems with the system and, therefore, the proposal deadline is extended, an e-mail will be sent to all entities that informed the Department that they intended to submit a proposal.

Extensions referred to in this section apply only to the unavailability of TEACHrfp@ed.gov. If TEACHrfp@ed.gov is available, and, for any reason, you are unable to submit your proposal electronically, you may submit your proposal in paper format by mail or hand delivery in accordance with the instructions in this notice.

b. Submission of Paper Copies of Proposals by Mail. If you submit your proposal in paper format by mail (through the U.S. Postal Service or a commercial carrier), you must mail the original and two copies of your proposal, on or before the proposal deadline date, to the Department at the following address: The TEACH Campaign, Office of Innovation and Improvement, U.S. Department of Education, 400 Maryland Ave., SW., Washington, DC 20202-5930.

You must show proof of mailing consisting of one of the following:

(i) A legibly dated U.S. Postal Service postmark.

(ii) A legible mail receipt with the date of mailing stamped by the U.S. Postal Service.

(iii) A dated shipping label, invoice, or receipt from a commercial carrier.

(iv) Any other proof of mailing acceptable to the Secretary of the U.S. Department of Education.

If you mail your proposal through the U.S. Postal Service, note that the Department does not accept either of the following as proof of mailing:

(i) A private metered postmark.

(ii) A mail receipt that is not dated by the U.S. Postal Service.

If your proposal is postmarked after the proposal deadline date, we will not consider your proposal.

Note: The U.S. Postal Service does not uniformly provide a dated postmark. Before relying on this method, you should check with your local post office.

c. Submission of Paper Copies of Proposals by Hand Delivery. If you submit your proposal in paper format by hand delivery, you (or a courier service) must deliver the original and two copies of your proposal by hand, on or before the deadline date, to the Department at the following address: The TEACH Campaign, Office of Innovation and Improvement, U.S. Department of Education, 400 Maryland Ave., SW., Washington, DC 20202-5930.

The Department accepts hand deliveries daily between 8:00 a.m. and 4:30 p.m., Washington, DC time, except Saturdays, Sundays, and Federal holidays.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

Dated: April 14, 2011.
James H. Shelton, III,
Assistant Deputy Secretary for Innovation and Improvement.

[FR Doc. 2011-9485 Filed 4-18-11; 8:45 am]

BILLING CODE 4000-01-P